DEPARTMENT OF JUSTICE

Notice of Lodging of Consent Decree Pursuant to the Oil Pollution Act of 1990

Notice is hereby given that a proposed consent decree in the action entitled United States and State of Rhode Island v. EW Holding Corp., Civil Action No. 00332T, was lodged on July 6, 2000, with the United States District Court for the District of Rhode Island. The proposed consent decree resolves the claims of the United States under subsections 1002(b)(1) and (b)(2) of the Oil Pollution Act of 1990 (“OPA”), 33 U.S.C. 2702 (b)(1) and (b)(2), for removal costs and damages, against EW Holding Corp. (as successor to Thor Towing Corporation and Odin Marine Corporation), K-Sea Transportation Corp. (as successor to Eklof Marine Corporation), West of England Ship Owners Mutual Insurance Association (Luxembourg), and Gregory R. Aitken (“Settling Defendants”), in connection with the oil spill that occurred, on January 19, 1996, in the waters of Block Island Sound, State of Rhode Island, that resulted from the grounding of the barge North Cape and the tug Scandia (the “North Cape Oil Spill”). The proposed consent decree also resolves the claims of the United States against the officers, directors, and employees of the corporations listed above to the extent that their liability arises from actions taken in their official capacities as officers, directors, or employees of these corporations. The proposed consent decree also resolves similar claims filed by the State of Rhode Island and Providence Plantations (“State”).

The proposed settlement resolves the claims of the United States and the State filed in a complaint on July 6, 2000. The complaint alleges that Odin Marine Corp. was the owner of the tank barge North Cape at the time of the North Cape oil spill, that Thor Towing Corp. was the owner of the tug Scandia at the time of the spill, and that Eklof Marine Corp. was the operator of both the tank barge North Cape and the tug Scandia at the time of the spill. West of England Ship Owners Mutual Insurance Association (Luxembourg) provided insurance coverage with respect to the spill, and Gregory R. Aitken was the Captain of the tug Scandia at the time of the spill. The complaint seeks damages for injury to, destruction of, loss of, or loss of use of, natural resources, including the reasonable costs of assessing the damage, resulting from the North Cape Oil Spill.

Pursuant to the proposed consent decree, the Settling Defendants will implement a lobster restoration program that will involve the v-notching and restocking of 1.248 million female legal-size lobsters into the waters of Block Island Sound by December 31, 2004. In addition, the Settling Defendants will make a payment to the United States and the State in the amount of $8 million, which will be used by the natural resource Trustees (the United States National Oceanic and Atmospheric Administration (“NOAA”), the United States Department of the Interior (“DOI”), and the Rhode Island Department of Environmental Management (“RIDEM”)), to implement the following restoration projects: shellfish restoration (quahog transplanting), salt pond land acquisition, loon restoration (acquisition of land or easements to protect loon nests), sea bird restoration (acquisition of land or easements to protect eider nests), piping plover restoration project, and a fish run project. Finally, the Settling Defendants have paid the Trustees the following amounts toward their costs of assessment that have not previously been reimbursed: $2,714,940.20 to NOAA, $358,474.60 to DOI, and $250,000 to RIDEM.

The Department of Justice will receive, for a period of thirty (30) days from the date of this publication, comments relating to the proposed consent decree. Comments should be addressed to the Assistant Attorney General, Environment and Natural Resources Division, Department of Justice, 960 Pennsylvania Avenue, NW., Washington, DC. 20530, and should refer to United States and State of Rhode Island v. EW Holding Corp., DOJ Ref. Number 90-5-1-1-4337.

The proposed consent decree may be examined at the offices of the United States Attorney's Office for the District of Rhode Island, 50 Kennedy Plaza, 8th Floor, Providence, R.I. (contact Michael Iannotti, 401-538-5477). A copy of the proposed consent decree may be obtained by mail from the Department of Justice Consent Decree Library, PO Box 7611, Washington, DC, 20044. In requesting a copy, please refer to the referenced case and enclose a check in the amount of $18 (25 cents per page reproduction costs).

Bruce S. Gelber,
Deputy Section Chief, Environmental Enforcement Section, Environment and Natural Resources Division.

[FR Doc. 00-18155 Filed 7-18-00; 8:45 am]

BILLING CODE 4410-15-M